SMALL BUSINESS ADMINISTRATION

SBIC Licensing and Examination Fees Inflation Adjustment

AGENCY: Small Business Administration.

ACTION: Notice of SBIC licensing and examination fee consumer price index increases.

SUMMARY: The U.S. Small Business Administration (SBA) is providing notice of the Licensing Fee schedule and Inflation Adjustment of the Examination Fees charged in the Small Business Investment Company (SBIC) program, required under the SBIC program regulations.

DATES: The adjusted SBIC program Licensing Fees identified in this notice became effective August 17, 2023 and the adjusted Examination Fees are effective as of October 1, 2023.

FOR FURTHER INFORMATION CONTACT: Nathaniel Putnam, Office of Investment and Innovation, at 202-714-1632 or oii.frontoffice@sba.gov. If you are deaf, hard of hearing, or have a speech disability, please dial 7-1-1 to access telecommunications relay services.

SUPPLEMENTARY INFORMATION: The SBIC program regulations at 13 CFR 107.300(c)(4), 107.692(b)(2), and 107.692(e) require SBA to annually adjust the Licensing and Examination Fees for SBICs using the Inflation Adjustment defined in 13 CFR 107.50. This document provides notice of that adjustment for Examination Fees payable by SBICs. The current Licensing Fees payable by SBIC Applicants became effective on August 17, 2023 as part of the SBIC Investment Diversification and Growth Final Rule, and will not require further Inflation Adjustment prior to the release of the June 2024 Consumer Price Index for All Urban Consumers, as calculated by the U.S. Bureau of Labor Statistics.

The table below identifies the current Licensing Fees payable by SBIC License Applicants and Examination Fees payable by SBICs:

SBIC fee type | Fund sequence | Fees amounts
Licensing Fees (effective under § 107.300) |  | (effective August 17, 2023)
Initial Licensing Fee § 107.300(a) | Fund I | $5,000
| Fund II | 10,000
| Fund III | 15,000
| Fund IV+ | 20,000
Final Licensing Fee § 107.300(b) | Fund I | 10,000
| Fund II | 15,000
| Fund III | 25,000
| Fund IV+ | 30,000
Licensing Resubmission Penty Fee § 107.300(c)(3) ¹ |  | 10,000
Examination Fees (effective under § 107.692) |  | (effective October 1, 2023)
Minimum Base Fee (§ 107.692(b)(2)) | All Funds | 10,700
Maximum Base Fee for non-Leveraged SBICs (§ 107.692(b)(2)) | All Funds | 35,500
Maximum Base Fee for Leveraged SBICs (§ 107.692(b)(2)) | All Funds | 52,100
Delay Fee (§ 107.692(e)) | All Funds | 800
¹ Resubmission Penalty Fee. The Resubmission Penalty Fee means a $10,000 penalty fee assessed to an applicant that has previously withdrawn or is otherwise not approved for a license that must be paid in addition to the Initial and Final Licensing Fees at the time the applicant resubmits its application.

Authority: 15 U.S.C. 681(e) and 687b(b); 13 CFR 107.300 and 107.692.

Bailey DeVries,
Associate Administrator, U.S. Small Business Administration, Office of Investment and Innovation.

[FR Doc. 2024-06605 Filed 3-27-24; 8:45 am]

BILLING CODE 8026-09-P